DEPARTMENT OF TRANSPORTATION

Federal Aviation Administration

14 CFR Part 39

[Docket No. FAA-2023-1716; Project Identifier MCAI-2022-00168-Q]

RIN 2120-AA64

Airworthiness Directives; Thales AVS France SAS Flight Management Computer Navigation Modules

AGENCY: Federal Aviation Administration (FAA), DOT.

ACTION: Notice of proposed rulemaking (NPRM).

SUMMARY: The FAA proposes to adopt a new airworthiness directive (AD) for certain Thales AVS France SAS (Thales) flight management computer navigation modules (FMC2 NAVM) installed on, but not limited to, airplanes. This AD was prompted by reports that, due to software issues, certain FMC2 NAVM navigation modules provide erroneous data to the flight management computer, compromising safe flight of the airplane. This proposed AD would require revising the existing aircraft flight manual (AFM) for your airplane and updating the navigation database. This proposed AD would also prohibit installing a database unless certain procedures were removed. The FAA is proposing this AD to address the unsafe condition on these products.

DATES: The FAA must receive comments on this NPRM by October 10, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1716; or in person at Docket Operations between 9 a.m. and 5 p.m., Monday through Friday, except Federal holidays. The AD docket contains this NPRM, the mandatory continuing airworthiness information (MCAI), any comments received, and other information. The street address for Docket Operations is listed above.

Material Incorporated by Reference:

• For service information identified in this NPRM, contact Thales AVS France SAS, 75-77 Avenue Marcel Dassault, 33700 Merignac, France; phone: +33 7 86 33 59 20; email: continued.airworthiness@thalesgroup.com.

• You may view this service information at the FAA, Airworthiness Products Section, Operational Safety Branch, 901 Locust, Kansas City, MO 64106. For information on the availability of this material at the FAA, call (817) 222-5110.

FOR FURTHER INFORMATION CONTACT: Nicholas Rediess, Aviation Safety Engineer, FAA, 1701 Columbia Avenue, College Park, GA 30337; phone: (781) 238-7159; email: 9-AVS-AIR-BACO-COS@faa.gov.

SUPPLEMENTARY INFORMATION:

Comments Invited

The FAA invites you to send any written relevant data, views, or arguments about this proposal. Send your comments to an address listed under ADDRESSES. Include “Docket No. FAA-2023-1716; Project Identifier MCAI-2022-00168-Q” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Nicholas Rediess, Aviation Safety Engineer, FAA, 1701 Columbia Avenue, College Park, GA 30337. Any commentary that the FAA receives which is not specifically designated as CBI will be placed in the public docket for this rulemaking.

Background

The European Union Aviation Safety Agency (EASA), which is the Technical Agent for the Member States of the European Union, has issued EASA AD 2022-0024, dated February 4, 2022 (referred to after this as “the MCAI”), to correct an unsafe condition for Thales FMC2 NAVM, part number (P/N) C13084CA03, installed on, but not limited to Dassault (formerly Bréguet) Br.1150 Atlantique 2 (ATL2) maritime patrol airplanes. The MCAI states that Thales FMC2 NAVM, P/N C13084CA03, provides erroneous guidance for navigation procedures of the flight management system due to issues with the software. This condition, if not addressed, could compromise the safety margins of the airplane. To address the unsafe condition, the MCAI requires revising the AFM with operational instructions for the affected airborne navigation procedures of the AFM. The MCAI also requires updating the navigation database software, and prohibits installing a database for the Thales FMC2 NAVM, P/N C13084CA03, unless it does not include the procedures specified in section II of Thales Service Information Letter F9111-J70859DN-00, issued January 18, 2022 (Thales SIL F9111-J70859DN-00).

You may examine the MCAI in the AD docket at regulations.gov under Docket No. FAA-2023-1716.

Related Service Information Under 1 CFR Part 51

The FAA reviewed Thales SIL F9111-J70859DN-00. This service information specifies updating the Thales FMC2 NAVM, P/N C13084CA03, navigation database.

This service information is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI and service information referenced above. The FAA is issuing this AD after determining the unsafe condition is likely to exist or develop in other products of the same type design.

Proposed AD Requirements in This NPRM

This proposed AD would require revising the existing AFM for your airplane and updating the navigation database. This proposed AD would also prohibit installing a database for the Thales FMC2 NAVM, P/N C13084CA03, unless it does not include the procedures specified in section II of Thales SIL F9111-J70859DN-00.

The owner/operator (pilot) holding at least a private pilot certificate may perform the proposed incorporation of the operating limitation into the existing AFM of your airplane, and the actions must be entered into the aircraft records showing compliance with this AD in accordance with 14 CFR 43.9(a) and 91.417(a)(2)(v). The record must be maintained as required by 14 CFR 91.417, 121.380, or 135.439. The proposed incorporation of the operating limitation into the existing AFM of your airplane is not considered a maintenance action and may be done equally by a pilot or a mechanic. This is an exception to the FAA's standard maintenance regulations.

Differences Between This Proposed AD and the MCAI

The MCAI applies to all Thales FMC2 NAVMs, P/N C13084CA03, installed on, but not limited to Dassault (formerly Bréguet) Br.1150 Atlantique 2 (ATL2) maritime patrol airplanes, and this proposed AD would not apply to those airplanes because those airplanes do not have an FAA type certificate. Currently, no airplanes on the U.S. registry incorporate the navigation equipment affected by this AD.

Costs of Compliance

There are currently no affected airplanes on the U.S. registry with a Thales FMC2 NAVM, P/N C13084CA03, installed. In the event a U.S.-registered airplane would have this equipment installed, the following is an estimate of the costs to comply with this proposed AD.

Estimated Costs
Action | Labor cost | Parts cost | Cost per product | Cost on U.S. operators
Revise AFM and update navigation database | 2 work-hours × $85 per hour = $170 | $0 | $170 | $0

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Thales AVS France SAS: Docket No. FAA-2023-1716; Project Identifier MCAI-2022-00168-Q.

(a) Comments Due Date

The FAA must receive comments on this airworthiness directive (AD) by October 10, 2023.

(b) Affected ADs

None.

(c) Applicability

This AD applies to Thales AVS France SAS flight management computer navigation modules (FMC2 NAVM), part number (P/N) C13084CA03, installed on, but not limited to airplanes, certificated in any category.

(d) Subject

Joint Aircraft System Component (JASC) Code 3400, Navigation System.

(e) Unsafe Condition

This AD was prompted by reports that, due to software issues, certain FMC2 NAVM navigation modules provide erroneous data to the flight management computer, compromising safe flight of the airplane. This condition, if not addressed, could compromise the safety margins of the airplane and result in controlled flight into terrain.

(f) Compliance

Comply with this AD within the compliance times specified, unless already done.

(g) Required Actions

(1) Within 30 days after the effective date of this AD, revise the Limitations Section of the existing airplane flight manual (AFM) for your airplane by adding the information in Table 1 to paragraph (g)(1) of this AD and Table 2 to paragraph (g)(1) of this AD.

Table 1 to Paragraph (g)(1)—Limitations To Operate the Flight Management System (FMS) of the Airplane
[Formulated as instructions to the flight crew]
Limitation No. | Limitation/instruction
1 | For Procedure Turn, Tear Drop trajectory, specified turn direction or arc to fix leg in published navigation procedure, disengage FMS Navigation mode and engage Track mode with the expected Track target.
2 | When coupled to the AFCS, do not perform a Direct To while established in Turn.
3 | Do not revise the flight plan until GO AROUND safe altitude (as per Standard Operating Procedure) has been reached.
4 | Initialize the flight plan with at least an intermediate waypoint between departure and destination.
5 | Before flying a procedure (including associated missed approach) that requires to fly over a waypoint, check that the fly-over flag is displayed on MCDU FPLN page beside the constrained fix, as expected in the published chart. If the fly-over is missing, it shall be set manually.
6 | Do not use Vertical Step function.
7 | Do not activate the data save command.
8 | Do not use Offset function.

Table 2 to Paragraph (g)(1)—FMS User Manual Limitations
Limitation No. | FMS user manual limitations
1 | Operate the FMS respecting the limitations.
2 | Only operate the FMS of the airplane with a specifically trained crew, as defined in the FMS User Manual, for awareness and training on the mitigation means to recover from the issue “straight leg bypassing following arc to fix leg.”

(i) Inserting a copy of this AD into the Limitations Section of the existing AFM for your airplane satisfies the requirement of paragraph (g)(1) of this AD.

(ii) The actions required by paragraph (g)(1) of this AD may be performed by the owner/operator (pilot) holding at least a private pilot certificate and must be entered into the aircraft records showing compliance with this AD in accordance with 14 CFR 43.9(a) and 91.417(a)(2)(v). The record must be maintained as required by 14 CFR 91.417, 121.380, or 135.439.

(2) Within 30 days after the effective date of this AD, update the database for your Thales FMC2 NAVM, P/N C13084CA03, with a database that does not contain the procedures specified in section II of Thales Service Information Letter F9111-J70859DN-00, issued January 18, 2022 (Thales SIL F9111-J70859DN-00).

(3) As of the effective date of this AD, do not install a database for your Thales FMC2 NAVM, P/N C13084CA03, unless it does not include the procedures specified in section II of Thales SIL F9111-J70859DN-00.

(h) Alternative Methods of Compliance (AMOCs)

(1) The Manager, East Certification Branch, FAA, has the authority to approve AMOCs for this AD, if requested using the procedures found in 14 CFR 39.19. In accordance with 14 CFR 39.19, send your request to your principal inspector or local Flight Standards District Office, as appropriate. If sending information directly to the manager of the certification branch, send it to the attention of the person identified in paragraph (i)(2) of this AD.

(2) Before using any approved AMOC, notify your appropriate principal inspector, or lacking a principal inspector, the manager of the local flight standards district office/certificate holding district office.

(i) Additional Information

(1) Refer to European Union Aviation Safety Agency (EASA) AD 2022-0024, dated February 4, 2022, for related information. This EASA AD may be found in the AD docket at regulations.gov under Docket No. FAA-2023-1716.

(2) For more information about this AD, contact Nicholas Rediess, Aviation Safety Engineer, FAA, 1701 Columbia Avenue, College Park, GA 30337; phone: (781) 238-7159; email: 9-AVS-AIR-BACO-COS@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Thales Service Information Letter F9111-J70859DN-00, issued January 18, 2022.

Note 1 to paragraph (j)(2)(i): The footer on pages 2 through 32 of Thales Service Information Letter F9111-J70859DN-00, issued January 18, 2022, contains the text “Reference: 0026-F9111-J70859DN-00.”

(ii) [Reserved]

(3) For service information identified in this AD, contact Thales AVS France SAS, 75-77 Avenue Marcel Dassault, 33700 Merignac, France; phone: +33 7 86 33 59 20; email: continued.airworthiness@thalesgroup.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on August 17, 2023.
Victor Wicklund,
Deputy Director, Compliance & Airworthiness Division, Aircraft Certification Service.

[FR Doc. 2023-18116 Filed 8-23-23; 8:45 am]

BILLING CODE 4910-13-P